DEPARTMENT OF DEFENSE

Office of the Secretary

[Transmittal No. 25-88]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-88, Policy Justification, and Sensitivity of Technology.

Dated: January 29, 2026.
Stephanie J. Bost,
Alternate OSD Federal Register Liaison Officer, Department of Defense.

Transmittal No. 25-88

Notice of Proposed Issuance of Letter of Offer Pursuant to Section 36(b)(1) of the Arms Export Control Act, as amended

(i) Prospective Purchaser: Government of Australia

(ii) Total Estimated Value:

Major Defense Equipment * | $605 million
Other | $100 million
Total | $705 million

(iii) Description and Quantity or Quantities of Articles or Services under Consideration for Purchase:

Major Defense Equipment (MDE):

Forty-eight (48) M142 High Mobility Artillery Rocket Systems (HIMARS)

Non-Major Defense Equipment:

The following non-MDE items will also be included: M1084A2 HIMARS resupply vehicles; M1095 trailers; Low Cost Reduced Range Practice Rocket (LCRRPR) pods; intercom systems; radio and communication mounts; spares parts and services; United States (U.S.) Government and contractor engineering, technical, and logistics support services; studies and surveys; and other related elements of logistics and program support.

(iv) Military Department: Army (AT-B-UOU)

(v) Prior Related Cases, if any: AT-B-UNP, AT-B-UMJ, AT-B-UMK

(vi) Sales Commission, Fee, etc., Paid, Offered, or Agreed to be Paid: None known at this time

(vii) Sensitivity of Technology Contained in the Defense Article or Defense Services Proposed to be Sold: See Attached Annex.

(viii) Date Report Delivered to Congress: September 30, 2025

* as defined in Section 47(6) of the Arms Export Control Act.

POLICY JUSTIFICATION

Australia—M142 High Mobility Artillery Rocket Systems

The Government of Australia has requested to buy forty-eight (48) M142 High Mobility Artillery Rocket Systems (HIMARS). The following non-MDE items will also be included: M1084A2 HIMARS resupply vehicles; M1095 trailers; Low Cost Reduced Range Practice Rocket (LCRRPR) pods; intercom systems; radio and communication mounts; spare parts and services; U.S. Government and contractor engineering, technical, and logistics support services; studies and surveys; and other related elements of logistics and program support. The estimated total cost is $705 million.

This proposed sale will support the foreign policy and national security objectives of the U.S. Australia is one of the United States' most important allies in the Western Pacific. The strategic location of this political and economic power contributes significantly to ensuring peace and economic stability in the Western Pacific. It is vital to the U.S. national interest to assist this ally in developing and maintaining a strong and ready self-defense capability.

The proposed sale will improve Australia's capability to meet current and future threats and will enhance interoperability with U.S. forces and other allied forces. Australia will use the capability to strengthen its homeland defense and provide greater security for its critical infrastructure. Australia will have no difficulty absorbing this equipment into its armed forces.

The proposed sale of this equipment and support will not alter the basic military balance in the region.

The principal contractors will be Lockheed Martin, located in Grand Prairie, TX; L3Harris Corporation, located in Melbourne, FL; Leonardo DRS, located in Arlington, VA; and Oshkosh Corporation, located in Stafford, VA. At this time, the U.S. Government is not aware of any offset agreement proposed in connection with this potential sale. Any offset agreement will be defined in negotiations between the purchaser and the contractor.

Implementation of this proposed sale will not require the assignment of any additional U.S. Government or contractor representatives to Australia.

There will be no adverse impact on U.S. defense readiness as a result of this proposed sale.

Transmittal No. 25-88

Notice of Proposed Issuance of Letter of Offer Pursuant to Section 36(b)(1) of the Arms Export Control Act

Annex

Item No. vii

(vii) Sensitivity of Technology:

1. The M142 High Mobility Artillery Rocket System (HIMARS) is a C-130 transportable wheeled launcher with Global Positioning System (GPS) Precise Positioning Service capability mounted on a 5-ton Family of Medium Tactical Vehicles (FMTV) truck chassis. HIMARS is the modern Army-fielded version of the Multiple Launch Rocket System (MLRS) M270 launcher and can fire all the MLRS Family of Munitions (FOM), including Guided Multiple Launch Rocket System (GMLRS) variants and the Army Tactical Missile System. Utilizing the MLRS FOM, the HIMARS can engage targets between 15 and 300 kilometers with GPS-aided precision accuracy.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that Australia can provide the same degree of protection for the sensitive technology being released as the U.S. Government. This proposed sale is necessary in furtherance of the U.S. foreign policy and national security objectives outlined in the Policy Justification.

5. All defense articles and services listed in this transmittal have been authorized for release and export to the Government of Australia.

[FR Doc. 2026-02061 Filed 1-30-26; 8:45 am]

BILLING CODE 6001-FR-P